DEPARTMENT OF ENERGY

Federal Energy Regulatory Commission

Combined Notice of Filings

Take notice that the Commission has received the following Natural Gas Pipeline Rate and Refund Report filings:

Filings Instituting Proceedings

Docket Numbers: RP13-620-000.

Applicants: Southern Star Central Gas Pipeline, Inc.

Description: Fuel Filing—Eff. April 1, 2013 to be effective 4/1/2013.

Filed Date: 3/1/13.

Accession Number: 20130301-5056.

Comments Due: 5 p.m. ET 3/13/13.

Docket Numbers: RP13-621-000.

Applicants: WBI Energy Transmission, Inc.

Description: 2013 Annual Fuel and Electric Power Reimbursement to be effective 4/1/2013.

Filed Date: 3/1/13.

Accession Number: 20130301-5057.

Comments Due: 5 p.m. ET 3/13/13.

Docket Numbers: RP13-622-000.

Applicants: Discovery Gas Transmission LLC.

Description: 2013 Tariff Revisions to be effective 4/1/2013.

Filed Date: 3/1/13.

Accession Number: 20130301-5058.

Comments Due: 5 p.m. ET 3/13/13.

Docket Numbers: RP13-623-000.

Applicants: Texas Eastern Transmission, LP.

Description: Northeast Energy Contract Conversion FTS-5 to FT-1 to be effective 4/1/2013.

Filed Date: 3/1/13.

Accession Number: 20130301-5064.

Comments Due: 5 p.m. ET 3/13/13.

Docket Numbers: RP13-624-000.

Applicants: Elba Express Company, L.L.C.

Description: BG Negotiated Rate Filing to be effective 4/1/2013.

Filed Date: 3/1/13.

Accession Number: 20130301-5067.

Comments Due: 5 p.m. ET 3/13/13.

Docket Numbers: RP13-625-000.

Applicants: Crossroads Pipeline Company.

Description: Operational Transactions year ended Dec 2012.

Filed Date: 3/1/13.

Accession Number: 20130301-5069.

Comments Due: 5 p.m. ET 3/13/13.

Docket Numbers: RP13-626-000.

Applicants: Energy West Development, Inc.

Description: Energy West Development, Inc. submit Lost and Unaccounted Gas [LAUF] reimbursement.

Filed Date: 2/28/13.

Accession Number: 20130228-5419.

Comments Due: 5 p.m. ET 3/12/13.

Docket Numbers: RP13-627-000.

Applicants: Virginia Power Energy Marketing Inc., Dominion Energy Brayton Point, LLC.

Description: Joint Petition of Virginia Power Energy Marketing, Inc. and Dominion Energy Brayton Point, LLC for Temporary Waiver of Capacity Release Regulations and Policies, and Request for Expedited Treatment.

Filed Date: 2/28/13.

Accession Number: 20130228-5420.

Comments Due: 5 p.m. ET 3/8/13.

Docket Numbers: RP13-628-000.

Applicants: TWP Pipeline LLC.

Description: Annual FRP Filing to be effective 4/1/2013.

Filed Date: 3/1/13.

Accession Number: 20130301-5073.

Comments Due: 5 p.m. ET 3/13/13.

Docket Numbers: RP13-629-000.

Applicants: Empire Pipeline, Inc.

Description: Annual Report Pursuant to GT&C Sec 23.5.

Filed Date: 3/1/13.

Accession Number: 20130301-5078.

Comments Due: 5 p.m. ET 3/13/13.

Docket Numbers: RP13-630-000.

Applicants: Stingray Pipeline Company, L.L.C.

Description: Stingray Pipeline Company, L.L.C. submits Events Surcharge Adjustment.

Filed Date: 2/28/13.

Accession Number: 20130228-5421.

Comments Due: 5 p.m. ET 3/12/13.

Docket Numbers: RP13-631-000.

Applicants: Gulf South Pipeline Company, LP.

Description: Remove Tariff Sections Affected by Abandonment in CP13-31-000 to be effective 3/31/2013.

Filed Date: 3/1/13.

Accession Number: 20130301-5092.

Comments Due: 5 p.m. ET 3/13/13.

Docket Numbers: RP13-632-000.

Applicants: Transcontinental Gas Pipe Line Company.

Description: Annual Fuel Tracker Filing 2013 to be effective 4/1/2013.

Filed Date: 3/1/13.

Accession Number: 20130301-5093.

Comments Due: 5 p.m. ET 3/13/13.

Docket Numbers: RP13-633-000.

Applicants: Columbia Gas Transmission, LLC.

Description: Operational Transactions year ended Dec 2012.

Filed Date: 3/1/13.

Accession Number: 20130301-5095.

Comments Due: 5 p.m. ET 3/13/13.

Docket Numbers: RP13-634-000.

Applicants: KPC Pipeline, LLC.

Description: KPC Fuel Reimbursement Adjustment to be effective 4/1/2013.

Filed Date: 3/1/13.

Accession Number: 20130301-5098.

Comments Due: 5 p.m. ET 3/13/13.

Docket Numbers: RP13-635-000.

Applicants: Hardy Storage Company, LLC.

Description: Hardy Storage Company, LLC Annual Report on Operational Transactions.

Filed Date: 3/1/13.

Accession Number: 20130301-5053.

Comments Due: 5 p.m. ET 3/13/13.

Docket Numbers: RP13-636-000.

Applicants: Columbia Gulf Transmission Company.

Description: Operational Transactions for year ended Dec 2012.

Filed Date: 3/1/13.

Accession Number: 20130301-5104.

Comments Due: 5 p.m. ET 3/13/13.

Docket Numbers: RP13-637-000.

Applicants: CenterPoint Energy Gas Transmission Comp.

Description: CEGT LLC—2013 Negotiated Rate Filing—March to be effective 3/1/2013.

Filed Date: 3/1/13.

Accession Number: 20130301-5112.

Comments Due: 5 p.m. ET 3/13/13.

Docket Numbers: RP13-638-000.

Applicants: Panhandle Eastern Pipe Line Company, LP.

Description: Fuel Filing on 3-1-13 to be effective 4/1/2013.

Filed Date: 3/1/13.

Accession Number: 20130301-5117.

Comments Due: 5 p.m. ET 3/13/13.

Docket Numbers: RP13-639-000.

Applicants: Trunkline Gas Company, LLC.

Description: Fuel Filing on 3-1-13 to be effective 4/1/2013.

Filed Date: 3/1/13.

Accession Number: 20130301-5118.

Comments Due: 5 p.m. ET 3/13/13.

Docket Numbers: RP13-640-000.

Applicants: Crossroads Pipeline Company.

Description: TRA 2013 to be effective 4/1/2013.

Filed Date: 3/1/13.

Accession Number: 20130301-5119.

Comments Due: 5 p.m. ET 3/13/13.

Docket Numbers: RP13-641-000.

Applicants: Southwest Gas Storage Company.

Description: Fuel Filing on 3-1-13 to be effective 4/1/2013.

Filed Date: 3/1/13.

Accession Number: 20130301-5120.

Comments Due: 5 p.m. ET 3/13/13.

Docket Numbers: RP13-642-000.

Applicants: Sea Robin Pipeline Company, LLC.

Description: Hurricane Surcharge Filing on 3-1-13 to be effective 4/1/2013.

Filed Date: 3/1/13.

Accession Number: 20130301-5123.

Comments Due: 5 p.m. ET 3/13/13.

Docket Numbers: RP13-643-000.

Applicants: Florida Gas Transmission Company, LLC.

Description: Fuel Filing on 3-1-13 to be effective 4/1/2013.

Filed Date: 3/1/13.

Accession Number: 20130301-5124.

Comments Due: 5 p.m. ET 3/13/13.

Docket Numbers: RP13-644-000.

Applicants: Texas Gas Transmission, LLC.

Description: CIAC Update to be effective 4/1/2013.

Filed Date: 3/1/13.

Accession Number: 20130301-5128.

Comments Due: 5 p.m. ET 3/13/13.

Docket Numbers: RP13-645-000.

Applicants: WBI Energy Transmission, Inc.

Description: 2013 NSP Restatement to be effective 3/1/2013.

Filed Date: 3/1/13.

Accession Number: 20130301-5129.

Comments Due: 5 p.m. ET 3/13/13.

Docket Numbers: RP13-646-000.

Applicants: Columbia Gas Transmission, LLC.

Description: RAM 2013 to be effective 4/1/2013.

Filed Date: 3/1/13.

Accession Number: 20130301-5135.

Comments Due: 5 p.m. ET 3/13/13.

Docket Numbers: RP13-647-000.

Applicants: Ruby Pipeline, L.L.C.

Description: FL&U and EPC Rate Adjustment effective 4-1-13 to be effective 4/1/2013.

Filed Date: 3/1/13.

Accession Number: 20130301-5144.

Comments Due: 5 p.m. ET 3/13/13.

Docket Numbers: RP13-648-000.

Applicants: MarkWest Pioneer, L.L.C.

Description: Quarterly Fuel Adjustment Filing of MarkWest Pioneer, L.L.C.

Filed Date: 3/1/13.

Accession Number: 20130301-5147.

Comments Due: 5 p.m. ET 3/13/13.

Docket Numbers: RP13-649-000.

Applicants: Colorado Interstate Gas Company, L.L.C.

Description: CIG Fuel Filing 3-1-13 to be effective 4/1/2013.

Filed Date: 3/1/13.

Accession Number: 20130301-5146.

Comments Due: 5 p.m. ET 3/13/13.

Docket Numbers: RP13-650-000.

Applicants: TransColorado Gas Transmission Company L.

Description: TransColorado Gas Transmission Company LLC 2012 Annual Fuel Gas Reimbursement Percentage Report.

Filed Date: 3/1/13.

Accession Number: 20130301-5148.

Comments Due: 5 p.m. ET 3/13/13.

Docket Numbers: RP13-651-000.

Applicants: Columbia Gas Transmission, LLC.

Description: EPCA 2013 to be effective 4/1/2013.

Filed Date: 3/1/13.

Accession Number: 20130301-5152.

Comments Due: 5 p.m. ET 3/13/13.

Docket Numbers: RP13-652-000.

Applicants: Iroquois Gas Transmission System, L.P.

Description: 03/01/13 Negotiated Rates—Citigroup Energy Inc. (RTS)—6075-04 & 05 Amend 4 to be effective 3/1/2013.

Filed Date: 3/1/13.

Accession Number: 20130301-5168.

Comments Due: 5 p.m. ET 3/13/13.

Docket Numbers: RP13-653-000.

Applicants: Iroquois Gas Transmission System, L.P.

Description: 03/01/13 Negotiated Rates—Freepoint Commodities (RTS) 7250-06 & 07 Amend 1 to be effective 3/1/2013.

Filed Date: 3/1/13.

Accession Number: 20130301-5187.

Comments Due: 5 p.m. ET 3/13/13.

Docket Numbers: RP13-654-000.

Applicants: KO Transmission Company.

Description: Transportation Retainage Adjustment Filing 2013 to be effective 4/1/2013.

Filed Date: 3/1/13.

Accession Number: 20130301-5189.

Comments Due: 5 p.m. ET 3/13/13.

Docket Numbers: RP13-655-000.

Applicants: Northern Natural Gas Company.

Description: 20130301 Non-Conforming Negotiated Rate to be effective 4/1/2013.

Filed Date: 3/1/13.

Accession Number: 20130301-5212.

Comments Due: 5 p.m. ET 3/13/13.

Docket Numbers: RP13-656-000.

Applicants: Columbia Gas Transmission, LLC.

Description: TRCA 2013 to be effective 4/1/2013.

Filed Date: 3/1/13.

Accession Number: 20130301-5217.

Comments Due: 5 p.m. ET 3/13/13.

Docket Numbers: RP13-657-000.

Applicants: Wyoming Interstate Company, L.L.C.

Description: WIC No Fuel Wheeling Area to be effective 4/1/2013.

Filed Date: 3/1/13.

Accession Number: 20130301-5238.

Comments Due: 5 p.m. ET 3/13/13.

Docket Numbers: RP13-658-000.

Applicants: Gulf Crossing Pipeline Company LLC.

Description: Amendments to Neg Rate Agmts—Vanguard 597-5, 598-5 to be effective 9/1/2012.

Filed Date: 3/1/13.

Accession Number: 20130301-5243.

Comments Due: 5 p.m. ET 3/13/13.

Docket Numbers: RP13-659-000.

Applicants: Cimarron River Pipeline, LLC.

Description: Fuel Tracker 2013 to be effective 4/1/2013.

Filed Date: 3/1/13.

Accession Number: 20130301-5247.

Comments Due: 5 p.m. ET 3/13/13.

Docket Numbers: RP13-660-000.

Applicants: Central Kentucky Transmission Company.

Description: RAM 2013 to be effective 4/1/2013.

Filed Date: 3/1/13.

Accession Number: 20130301-5250.

Comments Due: 5 p.m. ET 3/13/13.

Docket Numbers: RP13-661-000.

Applicants: Dauphin Island Gathering Partners.

Description: Storm Surcharge 2013 to be effective 4/1/2013.

Filed Date: 3/1/13.

Accession Number: 20130301-5251.

Comments Due: 5 p.m. ET 3/13/13.

Docket Numbers: RP13-662-000.

Applicants: El Paso Natural Gas Company, L.L.C.

Description: Willcox Lateral Non-Conforming TSAs to be effective 4/1/2013.

Filed Date: 3/1/13.

Accession Number: 20130301-5254.

Comments Due: 5 p.m. ET 3/13/13.

Docket Numbers: RP13-663-000

Applicants: LA Storage, LLC.

Description: LA Storage, LLC Annual Adjustment of Fuel Retainage Percentage.

Filed Date: 2/28/13.

Accession Number: 20130228-5422.

Comments Due: 5 p.m. ET 3/12/13.

Docket Numbers: RP13-664-000.

Applicants: Mississippi Canyon Gas Pipeline, L.L.C.

Description: Clean up Filing to be effective 4/1/2013.

Filed Date: 3/1/13.

Accession Number: 20130301-5345.

Comments Due: 5 p.m. ET 3/13/13.

Docket Numbers: RP13-665-000.

Applicants: Columbia Gulf Transmission Company.

Description: TRA 2013 & Offshore Cleanup to be effective 4/1/2013.

Filed Date: 3/1/13.

Accession Number: 20130301-5346.

Comments Due: 5 p.m. ET 3/13/13.

Docket Numbers: RP13-666-000.

Applicants: Kern River Gas Transmission Company.

Description: 2013 Clean-up Filing to be effective 12/1/2012.

Filed Date: 3/1/13.

Accession Number: 20130301-5348.

Comments Due: 5 p.m. ET 3/13/13.

Docket Numbers: RP13-667-000.

Applicants: High Point Gas Transmission, LLC.

Description: Annual Unaccounted for Gas Retention Percentage Filing of High Point Gas Transmission, LLC.

Filed Date: 3/1/13.

Accession Number: 20130301-5381.

Comments Due: 5 p.m. ET 3/13/13.

Docket Numbers: RP13-668-000.

Applicants: CF Industries Enterprises, Inc., CF Industries Nitrogen, LLC.

Description: Joint Petition for Expedited Limited Waiver of Capacity Release Regulations and Policies of CF Industries Enterprises, Inc. and CF Industries Nitrogen, LLC.

Filed Date: 3/1/13.

Accession Number: 20130301-5383.

Comments Due: 5 p.m. ET 3/13/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-404-001.

Applicants: Transwestern Pipeline Company, LLC.

Description: 2013 TW Settlement Filing to Implement Tariff Sheets to be effective 4/1/2013.

Filed Date: 3/1/13.

Accession Number: 20130301-5125.

Comments Due: 5 p.m. ET 3/13/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 04, 2013.
Nathaniel J. Davis, Sr.,
Deputy Secretary.

[FR Doc. 2013-05528 Filed 3-8-13; 8:45 am]

BILLING CODE 6717-01-P